DEPARTMENT OF EDUCATION

Advisory Committee on Student Financial Assistance: Hearing

AGENCY: Advisory Committee on Student Financial Assistance, Education.

ACTION: Notice of Upcoming Hearing.

SUMMARY: This notice sets forth the schedule and proposed agenda of a forthcoming hearing of the Advisory Committee on Student Financial Assistance. Individuals who will need accommodations for a disability in order to attend the hearing (i.e., interpreting services, assistive listening devices, and/or materials in alternative format) should notify the Advisory Committee no later than Monday, September 11, 2006 by contacting Ms. Hope Gray at (202) 219-2099 or via e-mail at hope.gray@ed.gov. We will attempt to meet requests after this date, but cannot guarantee availability of the requested accommodation. The hearing site is accessible to individuals with disabilities. This notice also describes the functions of the Advisory Committee. Notice of this hearing is required under Section 10(a)(2) of the Federal Advisory Committee Act. This document is intended to notify the general public.

DATE AND TIME: Tuesday, September 19, 2006, beginning at 9 a.m. and ending at approximately 5 p.m.

ADDRESSES: The Washington Court Hotel, 525 New Jersey Avenue, NW., Executive Room, Lower Lobby Level, Washington, DC 20001.

FOR FURTHER INFORMATION CONTACT: Dr. Michelle Asha Cooper, Director of Policy Research or Ms. Erin B. Renner, Director of Government Relations, Advisory Committee on Student Financial Assistance, Capitol Place, 80 F Street, NW., Suite 413, Washington, DC 20202-7582, (202) 219-2099.

SUPPLEMENTARY INFORMATION: The Advisory Committee on Student Financial Assistance is established under section 491 of the Higher Education Act of 1965 as amended by Public Law 100-50 (20 U.S.C. 1098). The Advisory Committee serves as an independent source of advice and counsel to the Congress and the Secretary of Education on student financial aid policy. Since its inception, the congressional mandate requires the Advisory Committee to conduct objective, nonpartisan, and independent analyses on important aspects of the student assistance programs under Title IV of the Higher Education Act. In addition, Congress expanded the Advisory Committee's mission in the Higher Education Amendments of 1998 to include several important areas: Access, Title IV modernization, distance education, and early information and needs assessment. Specifically, the Advisory Committee is to review, monitor and evaluate the Department of Education's progress in these areas and report recommended improvements to Congress and the Secretary.

The Advisory Committee has scheduled this one-day hearing to publicly launch its new report on the impact of financial barriers on college enrollment and the Committee's newly requested Congressional charge, to conduct a one-year study of the rising cost of college textbooks and make recommendations on ways to reduce the financial barriers for all students. The proposed agenda includes expert testimony and discussions by prominent higher education community leaders, state representatives, and policy researchers who will address (a) the Committee's report on the impact of financial barriers on college enrollment and degree attainment; (b) the Congressionally requested study of college textbooks; (c) the feasibility study for radical simplification of federal expected family contribution (EFC) determination, which is a part of the Committee's Innovative Pathways Study, and (d) a roundtable discussion among Advisory Committee members and panelists on the issues addressed in the first three sessions, followed by a public comment session.

The Advisory Committee invites the public to submit written comments on the agenda topics to the following e-mail address: ACSFA@ed.gov. Information regarding the topics covered at the hearing will also be available on the Advisory Committee's Web site at http://www.ed.gov/ACSFA. We must receive your comments on or before September 15, 2006 to be included in the hearing materials.

Space for the hearing is limited and you are encouraged to register early if you plan to attend. You may register by sending an e-mail to the following address: ACSFA@ed.gov or Tracy.Deanna.Jones@ed.gov. Please include your name, title, affiliation, complete address (including internet and e-mail, if available), and telephone and fax numbers. If you are unable to register electronically, you may fax your registration information to the Advisory Committee staff office at (202) 219-3032. You may also contact the Advisory Committee staff directly at (202) 219-2099. The registration deadline is Tuesday, September 12, 2006.

Records are kept for Advisory Committee proceedings, and are available for inspection at the Office of the Advisory Committee on Student Financial Assistance, Capitol Place, 80 F Street, NW., Suite 413, Washington, DC from the hours of 9 a.m. to 5:30 p.m. Monday through Friday, except Federal holidays. Information regarding the Advisory Committee is available on the Committee's Web site, http://www.ed.gov/ACSFA.

Dated: August 25, 2006.
William J. Goggin,
Executive Director, Advisory Committee on Student Financial Assistance.

[FR Doc. 06-7273 Filed 8-30-06; 8:45 am]

BILLING CODE 4000-01-M